DEPARTMENT OF HEALTH AND HUMAN SERVICES

Health Resources and Services Administration

Health Professions and Nurse Education Special Emphasis Panels; Meetings; Addendum and Correction

In Federal Register Document 01-28108, appearing on pages 56689-56690 in the issue for Friday, November 9, 2001, the following meetings of the Health Professions and Nurse Education Special Emphasis Panel are added:

Name: Cooperative Agreements for Health Workforce Research.

Date and Time: August 12-15, 2002.

Place: Hilton Silver Spring, 8727 Colesville Road, Silver Spring, MD 20910.

Open on: August 12, 2002, 8 a.m. to 10 a.m.

Closed on: August 12, 2002, 10 a.m. to adjournment (approximately 6 p.m.). August 13-15, 2002, 8 a.m. to adjournment (approximately 6 p.m.).

Name: National Research Service Awards.

Date and Time: August 26-29, 2002.

Place: Hilton Silver Spring, 8727 Colesville Road, Silver Spring, MD 20910.

Open on: August 26, 2002, 8 a.m. to 10 a.m.

Closed on: August 26, 2002, 10 a.m. to adjournment (approximately 6 p.m.). August 27-29, 2002, 8 a.m. to adjournment (approximately 6 p.m.).

Name: Area Health Education Centers Bioterrorism Supplement.

Date and Time: August 27-28, 2002.

Place: Parklawn Building, 5600 Fishers Lane, Rockville, MD 20857.

Open on: August 27, 2002, 10 a.m. to 12 p.m.

Closed on: August 27, 2002, 12 p.m. to adjournment (approximately 4 p.m.). August 28, 2002, 10 a.m. to adjournment (approximately 4 p.m.).

Name: Public Health Fellowships & Internships.

Date and Time: September 18-19, 2002.

Place: Parklawn Building, 5600 Fishers Lane, Rockville, MD 20857.

Open on: September 18, 2002, 12 p.m. to 1 p.m.

Closed on: September 18, 2002, 1 p.m. to adjournment (approximately 4 p.m.). September 19, 2002, 1 p.m. to adjournment (approximately 4 p.m.).

In Federal Register Document 02-5357 appearing on pages 10419-10420 in the issue for Thursday, March 7, 2002, the dates of the following meetings of the Health Professions and Nurse Education Special Emphasis Panel are corrected as follows:

Name: National Research Service Awards.

Date and Time: August 5-8, 2002.

Place: Hilton Silver Spring, 8727 Colesville Road, Silver Spring, MD 20910.

Open on: August 5, 2002, 8 a.m. to 10 a.m.

Closed on: August 5, 2002, 10 a.m. to adjournment (approximately 6 p.m.). August 6-8, 2002, 8 a.m. to adjournment (approximately 6 p.m.).

Name: Geriatric Academic Career Awards.

Date and Time: August 12, 2002.

Place: Hilton Silver Spring, 8727 Colesville Road, Silver Spring, MD 20910.

Open on: August 12, 2002, 8 a.m. to 10 a.m.

Closed on: August 12, 2002, 10 a.m. to adjournment (approximately 6 p.m.). August 13-15, 2002, 8 a.m. to adjournment (approximately 6 p.m.).

Purpose: The Health Professions and Nurse Education Special Emphasis Panel shall advise the Associate Administrator for Health Professions on the technical merit of grants to improve the training, distribution, utilization, and quality of personnel required to staff the Nation's health care delivery system.

Agenda: The open portion of each meeting will cover introductions, opening remarks, housekeeping details, and an orientation to the review process. The meetings will be closed after Orientation on the first day of each meeting until adjournment while the review of grant applications is conducted. The closing is in accordance with the provision set forth in section 552b(c)(6), Title 5 U.S.C., as amended, and the Determination by the Acting Associate Administrator for Management and Program Support, Health Resources and Services Administration, pursuant to section 10(d) of the Federal Advisory Committee Act, Public Law 92-463, as amended (5 U.S.C. Appendix 2).

For further information, contact Ms. Theresa Derville, Acting Director, Office of Peer Review, Bureau of Health Professions, Parklawn Building, Room 8C-23, 5600 Fishers Lane, Rockville, Maryland 20857, telephone 301-443-6339.

Dated: July 30, 2002.
Jane M. Harrison,
Director, Division of Policy Review and Coordination.

[FR Doc. 02-19630 Filed 8-1-02; 8:45 am]

BILLING CODE 4165-15-P